DEPARTMENT OF LABOR

Employment and Training Administration

[TA-W-73,840]

Lochmoor Chrysler Jeep; Detroit, MI; Notice of Negative Determination Regarding Application for Reconsideration

By application dated July 6, 2010, the petitioners requested administrative reconsideration of the Department's negative determination regarding eligibility to apply for Trade Adjustment Assistance (TAA), applicable to workers and former workers of the subject firm. The determination was signed on June 17, 2010. The Notice of determination was published in the Federal Register on July 1, 2010 (75 FR 38142).

Pursuant to 29 CFR 90.18(c), reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The negative determination applicable to workers and former workers at Lochmoor Chrysler Jeep, Detroit, Michigan, was based on the findings that the subject firm did not, during the period under investigation, shift to a foreign country sales services like or directly competitive with the sales services supplied by the workers or acquire these services from a foreign country; that the workers' separation, or threat of separation, was not related to any increase in imports of like or directly competitive services; and that the workers did not supply a service that was directly used in the production of an article or the supply of service by a firm that employed a worker group that is eligible to apply for TAA based on the aforementioned article or service.

In the request for reconsideration, the petitioner states that the “trend of Americans buying foreign cars has caused the fortunes of Chrysler to enter bankruptcy * * * causing the car sales companies like Lochmoor to lose there dealerships * * * foreign car sales lots have opened up in its place.”

During the initial investigation, the Department obtained information from the subject firm that revealed that the sales services supplied by the workers were not shifted abroad by the subject firm or acquired from a foreign source.

Production of automobiles is not directly competitive with the sales services provided by the workers. Further, the workers did not supply a service that was used by a firm with TAA-certified workers in the production of an article or supply of a service that was the basis for TAA-certification.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 4th day of August, 2010.
Del Min Amy Chen,
Certifying Officer, Division of Trade Adjustment Assistance.

[FR Doc. 2010-20034 Filed 8-12-10; 8:45 am]

BILLING CODE 4510-FN-P